DEPARTMENT OF AGRICULTURE

Grain Inspection, Packers and Stockyards Administration

9 CFR Part 201

RIN 0580-AB25

Scope of Sections 202(a) and (b) of the Packers and Stockyards Act

Correction

In rule document 2016-30424, appearing on pages 92566 through 92594 in the issue of Tuesday, December 20, 2016, make the following correction:

On page 92566, in the first column, in the DATES section, the first sentence, “This interim final rule is February 21, 2017.” should read, “This interim final rule is effective February 21, 2017.”

[FR Doc. C1-2016-30424 Filed 1-6-17; 8:45 am]

BILLING CODE 1301-00-D